DEPARTMENT OF HOMELAND SECURITY

Agency Information Collection Activities: Personal Identity Verification Official (PIV-O) Credential and Shield Request, OMB Control No. 1601-NEW

AGENCY: Department of Homeland Security (DHS).

ACTION: 30-Day notice and request for comments.

SUMMARY: The Department of Homeland Security, DHS will submit the following Information Collection Request (ICR) to the Office of Management and Budget (OMB) for review and clearance in accordance with the Paperwork Reduction Act of 1995. DHS previously published this information collection request (ICR) in the Federal Register on August 15, 2023, for a 60-day public comment period. No comments were received by DHS. The purpose of this notice is to allow additional 30-days for public comments.

DATES: Comments are encouraged and will be accepted until November 24, 2023. This process is conducted in accordance with 5 CFR 1320.1.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: Department of Homeland Security (DHS) Form 11000-16 is used to request a DHS Personal Identity Verification Official (PIV-O) credential, and if applicable, a shield (i.e., metallic law enforcement or non-law enforcement badge) to accompany the credential, for DHS employees, contractors, and affiliates authorized to perform specific official functions pursuant to law, statute, regulation, or DHS Directive. This collection of information, using Department of Homeland Security (DHS) Form 11000-16, is necessary to support Homeland Security Presidential Directive 12: Policy for a Common Identification Standard for Federal Employees and Contractors, issued on August 27, 2004, which mandates a federal standard for secure and reliable forms of identification. The collection is used in accordance with System of Record Notice DHS/ALL-026 Department of Homeland Security Personal Identity Verification Management System and Department policy to request a DHS Personal Identity Verification Official (PIV-O) credential, and if applicable, a shield (i.e., metallic law enforcement or non-law enforcement badge) to accompany the credential. A DHS PIV-O credential describes authorities delegated to specific DHS employees, contractors, and affiliates who interact with the public or federal, state, local, or tribal entities to perform authorized official functions pursuant to law, statute, regulation, or DHS Directive.

The collection of information is obtained from (or on behalf of) the respondent, who may be a current or prospective DHS contractor (i.e., member of the public). The information is collected electronically using a fillable PDF form submitted to the respective DHS credentialing office. The respondent is responsible for only completing Sections 1, 2, and 3 of DHS Form 11000-16; the remaining sections of the form (Sections 4, 5, and 6) are completed by DHS federal employees. Qualified personnel within the DHS credentialing office holding a requisite role in the Identity and Credential System(s) of Record use the collected information to adjudicate the action requested in Section 1 of the DHS Form 11000-16, and as necessary, enroll, identify, and retrieve the applicant's record in the DHS Identity and Credential System(s) of Record.

The collection of information is obtained from the respondent electronically using a fillable PDF form: upon completion, the form is submitted to the respective DHS Component credentialing office in accordance with internal procedures.

This information collection does not have an impact on small businesses or other small entities.

Collection of the information on DHS Form 11000-16 is voluntary; however, failure to provide the information requested may prevent the respondent (i.e., applicant) from receiving the requested DHS PIV-O credential and/or shield.

There is no assurance of confidentiality provided to the respondents. Consistent with DHS's information sharing mission, this information collection may be shared with Federal, state, local, tribal, foreign or international government agencies, including other DHS Components and offices. This sharing will only take place after DHS determines that the receiving entity has a need to know the information to carry out national security, law enforcement, immigration, intelligence, or other functions consistent with the routine uses set forth in Privacy Impact Assessment, DHS/ALL/PIA-014 Personal Identity Verification/Identity Management System (PIV/IDMS) and System of Records Notice, DHS/ALL-026 Department of Homeland Security Personal Identity Verification Management System.

This is a new collection.

The Office of Management and Budget is particularly interested in comments which:

5. Evaluate whether the proposed collection of information is necessary for the proper performance of the functions of the agency, including whether the information will have practical utility;

6. Evaluate the accuracy of the agency's estimate of the burden of the proposed collection of information, including the validity of the methodology and assumptions used;

7. Enhance the quality, utility, and clarity of the information to be collected; and

8. Minimize the burden of the collection of information on those who are to respond, including through the use of appropriate automated, electronic, mechanical, or other technological collection techniques or other forms of information technology, e.g., permitting electronic submissions of responses.

Analysis

Agency: Department of Homeland Security (DHS).

Title: Personal Identity Verification Official (PIV-O) Credential and Shield Request.

OMB Number: 1601-NEW.

Frequency: Annually.

Affected Public: Individuals or Households.

Number of Respondents: 1,500.

Estimated Time per Respondent: 15 mins.

Total Burden Hours: 375 hrs.

Robert Porter Dorr,
Executive Director, Business Management Directorate.

[FR Doc. 2023-23405 Filed 10-23-23; 8:45 am]

BILLING CODE 9112-FL-P